DEPARTMENT OF COMMERCE

National Oceanic and Atmospheric Administration

[I.D. 011607B]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application submitted by Bradford Bowen contains all of the required information and warrants further consideration. The Assistant Regional Administrator has made a preliminary determination that the activities authorized under this EFP would be consistent with the goals and objectives of the Monkfish Fishery Management Plan (FMP). However, further review and consultation may be necessary before a final determination is made to issue an EFP. Therefore, NMFS announces that the Assistant Regional Administrator proposes to recommend that an EFP be issued that would allow one commercial fishing vessel to conduct fishing operations that are otherwise restricted by the regulations governing the fisheries of the Northeastern United States. The EFP would enable researchers to determine selectivity curves and catch rates for monkfish in large mesh gillnets by granting exemption from possession and landing restrictions of the FMP.

Regulations under the Magnuson-Stevens Fishery Conservation and Management Act require publication of this notification to provide interested parties the opportunity to comment on applications for proposed EFPs.

DATES: Comments must be received on or before February 6, 2007.

ADDRESSES: You may submit written comments by any of the following methods:

• E-mail: DA6-386@noaa.gov. Include in the subject line “Comments on monkfish gillnet EFP.”

• Mail: Patricia A. Kurkul, Regional Administrator, NMFS, NE Regional Office, 1 Blackburn Drive, Gloucester, MA 01930. Mark the outside of the envelope “Comments on monkfish gillnet EFP, DA6-386.”

• Fax: (978) 281-9135.

FOR FURTHER INFORMATION CONTACT: Douglas Potts, Fishery Management Specialist, 978-281-9341.

SUPPLEMENTARY INFORMATION: An application for an EFP was submitted on December 26, 2006, by Bradford Bowen of the F/V Jessica Marie and Michael Pol of the Massachusetts Division of Marine Fisheries, for a project funded under the New England and Mid-Atlantic Fishery Management Councils' Monkfish Research Set-Aside (RSA) Program. The primary goal of this study is to provide information on the selectivity of large mesh gillnets that can be used to enhance the management of this species.

The EFP would exempt one vessel from monkfish trip limits while conducting research trips using extra large mesh gillnets. This project was awarded 80 monkfish days-at-sea (DAS) through the 2007 Monkfish RSA Program under project 07-MONK-003. These DAS would be used to conduct the research, as well as to provide funds to support the research through the sale of fish from these trips.

Trips are proposed to occur May 1 through June 30, 2007, and then again from November 1, 2007, through April 30, 2008. Nets would be set south of Cape Cod and would follow the expected movements of the monkfish, starting at a depth of 50 fm in May and gradually moving to 20 fm by the end of June. In November, trips would begin in 15-20 fm and gradually move offshore to a depth of 80-100 fm by the end of April 2008. No trips would be conducted July 1-October 31, 2007, because of warm water temperatures and a typical absence of fish.

Research trips would be conducted aboard the F/V Jessica Marie (permit # 146901, hull # MA9252KR), owned by Mr. Bowen. Each net panel for this study would be 300 ft (91.4 m) long and made of 30 gauge webbing. Seven nets each of 10-inch (25.4-cm), 12-inch (30.5-cm), and 14-inch (35.6-cm) mesh would be combined into a single 21-net “string.” Net height for the different mesh panels would be coordinated to be within 1 inch (2.5 cm) of each other. Two such strings would be used, for a total of 42 nets. Each string would be fitted with 85-lb (38.5-kg) lead line, 3/8-inch (0.95-cm) polypropylene float line with floats every 8 ft (2.4 m), and tied down to stand 30 inches (76 cm) above the bottom. The strings would also be fitted with temperature loggers, 1,100-lb (498.9-kg) breakaway links, and “pingers” to help minimize effects on marine mammals.

This gear configuration is expected to be much less efficient than the current regulatory limit of up to 150 300-ft (91.4-m) nets of 10-inch (25.4-cm) mesh. It is expected that most trips would result in catches well below the trip limit. Specific trips could occur when the trip limit would be reached or exceeded after hauling only one of the two strings. To prevent excess discards and to ensure that all of the experimental gear can be hauled during each trip, the applicant has requested the exemption outlined above.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: January 17, 2007.
James P. Burgess,
Acting Director, Office of Sustainable Fisheries, National Marine Fisheries Service.

[FR Doc. E7-768 Filed 1-19-07; 8:45 am]

BILLING CODE 3510-22-S